SOCIAL SECURITY ADMINISTRATION

Agency Information Collection Activities: Proposed Request and Comment Request

The Social Security Administration (SSA) publishes a list of information collection packages that will require clearance by the Office of Management and Budget (OMB) in compliance with Pub. L. 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB) Office of Management and Budget, Attn: Desk Officer for SSA, Fax: 202-395-6974.

(SSA) Social Security Administration, DCFAM, Attn: Reports Clearance Officer, 1333 Annex Building, 6401 Security Blvd., Baltimore, MD 21235, Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Farm Self-Employment Questionnaire—20 CFR 404.1095—0960-0061. Section 211(a) of the Social Security Act requires the existence of a trade or business as a prerequisite for determining whether an individual or partnership may have “net earnings from self-employment.” Form SSA-7156 elicits the information necessary to determine the existence of an agricultural trade or business and subsequent covered earnings for Social Security entitlement purposes. The respondents are applicants for Social Security benefits, whose entitlement depends on whether the worker has covered earnings from self-employment as a farmer.

Type of Request: Extension of an OMB-approved information collection.

Number of Respondents: 47,500.

Frequency of Response: 1.

Average Burden Per Response: 10 minutes.

Estimated Annual Burden: 7,917 hours.

2. Accelerated Benefits Demonstration Project—0960-NEW. The Accelerated Benefits Demonstration Project is a multi-phase study designed to assess whether providing new Social Security Disability Insurance (SSDI) recipients with certain benefits will stabilize or improve their health and help them return to work early. In this long-term study, new SSDI disability recipients (i.e., those who have just begun receiving benefits and who have at least 18 months remaining before they qualify for Medicare) will be divided into three groups: (1) A control group that will just receive their regular SSDI benefits; (2) a treatment group that will receive immediate access to health care benefits; and (3) a treatment group that will receive health care benefits and additional care management, employment, and benefits services and support. The study, which will be conducted for SSA by research contractors and health care experts, will assess if the accelerated benefits help new beneficiaries improve and return to work earlier and if there is a difference between the treatment groups. The respondents are beneficiaries who have just begun receiving SSDI disability benefits and are not yet eligible for Medicare health benefits.

Type of Request: New information collection.

Total Estimated Annual Burden: 1,570 hours.

Part of Study | Number of respondents | Frequency of response | Average burden per response (minutes) | Estimated annual burden (hours)
Focus Groups | 40 | 1 | 120 | 80
Pilot Survey | 500 | 1 | 30 | 250
Actual Survey/Assessment of Treatment Efficacy (“Baseline Survey”) | 2,000 | 1 | 30 | 1,000
Three-Month Follow-Up Survey (“Early Use Survey”) | 480 | 1 | 30 | 240
Total | 3,020 |  |  | 1,570

Please Note: This Notice was originally published on January 8, 2007, at 72 FR 834. At that time, there was an inadvertent error. In places where we stated “SSI,” we meant to say “SSDI.” This notice corrects that error; all other information remains unchanged.

3. Authorization to Disclose Information to the Social Security Administration—20 CFR Subpart O, 404.1512 and Subpart I, 416.912—0960-0623. SSA must obtain sufficient medical evidence to make eligibility determinations for the SSDI benefits and Supplemental Security Income (SSI) payments. For SSA to obtain medical evidence, an applicant must authorize his or her medical source(s) to release the information to SSA. The applicant may use form SSA-827 to provide consent for release of information. Generally, the State DDS completes the form(s) based on information provided by the applicant, and sends the form(s) to the designated medical source(s). The respondents are applicants for SSDI and SSI payments.

Type of Request: Revision of an OMB-approved information collection.

Number of Respondents: 3,853,928.

Frequency of Response: 1 (Average forms per case 4).

Average Burden Per Response: *13 minutes.

Total Annual Responses: 15,415,712.

Estimated Annual Burden: 835,018 hours.

* Please Note: Respondents to the SSA-827 collection complete a total four forms. SSA estimates that it takes a claimant 10 minutes to read both sides and sign the initial SSA-827. However, once a claimant reads the first form, it takes considerably less time to date and sign the subsequent forms because the forms do not have to be read again. SSA estimates the signing and dating of the three additional forms at one minute per form, resulting in three additional minutes. Therefore, the total time it takes to complete all four SSA-827's is 13 minutes.

II. The information collections listed below have been submitted to OMB for clearance. Your comments on the information collections would be most useful if received by OMB and SSA within 30 days from the date of this publication. You can obtain a copy of the OMB clearance packages by calling the SSA Reports Clearance Officer at 410-965-0454, or by writing to the address listed above.

Representative Payee Report—20 CFR 404.2035, 404.2065, 416.635, and 416.665—0960-0068. SSA uses forms SSA-623 and SSA-6230 to determine if (1) Payments sent to individual representative payees have been used for SSDI beneficiaries and SSI recipients' current maintenance and personal needs and (2) the representative payee continues to be a capable representative concerned with the individual's welfare. The respondents are individual representative payees for recipients of SSDI benefits and SSI payments.

Type of Request: Revision to an OMB-approved information collection.

Number of Respondents: 5,500,000.

Frequency of Response: 1.

Average Burden Per Response: 15 minutes.

Estimated Annual Burden: 1,375,000 hours.

Dated: Janaury 19, 2007.
Elizabeth A. Davidson,
Reports Clearance Officer, Social Security Administration.

[FR Doc. E7-1089 Filed 1-24-07; 8:45 am]

BILLING CODE 4191-02-P